ENVIRONMENTAL PROTECTION AGENCY

40 CFR Parts 52 and 97

[EPA-HQ-OAR-2009-0491; FRL-9478-6]

RIN 2060-AR22

Revisions to Federal Implementation Plans To Reduce Interstate Transport of Fine Particulate Matter and Ozone

AGENCY: Environmental Protection Agency (EPA).

ACTION: Announcement of public hearing.

SUMMARY: EPA is announcing that a public hearing will be held on October 28, 2011, for the proposed rule, “Revisions to the Federal Implementation Plans to Reduce Interstate Transport of Fine Particulate Matter and Ozone”, which was signed on October 6, 2011 and posted on EPA's website on October 6, 2011. The hearing will be held, as provided in this notice and in the proposed rule, if requested, and will take place in Washington, DC.

DATES: The public hearing, if requested, will be held on October 28, 2011. To request a hearing, please contact the person listed in the following FOR FURTHER INFORMATION CONTACT section by October 19, 2011.

ADDRESSES: The public hearing, if requested by October 19, 2011, will be held in Room 152 at EPA offices, 1310 L Street, NW., Washington, DC 20005 beginning at 9 a.m. and continuing until 5 p.m. if necessary. The EPA Web site for the rulemaking, which includes the proposal and information about the public hearing, can be found at http://www.epa.gov/crossstaterule. If no request is made by October 19, 2011, no hearing will be held. An announcement that a hearing was not requested and so will not be held will be made on EPA's Web site referenced above.

FOR FURTHER INFORMATION CONTACT: If you would like to present oral testimony at the public hearing, if held, please contact Ms. Gabrielle Stevens, Clean Air Markets Division, Office of Atmospheric Programs, Mail Code 6204J, Environmental Protection Agency, 1200 Pennsylvania Avenue, NW., Washington DC 20460, telephone number (202) 343-9252, e-mail address: stevens.gabrielle@epa.gov (preferred method for registering), no later than 2 business days prior to the public hearing if timely request for a hearing has been made. The last day to register will be October 26, 2011. If using e-mail, please provide the following information: Name, affiliation, address, e-mail address, and telephone and fax numbers.

Questions concerning the proposed rule should be addressed to Ms. Gabrielle Stevens, Clean Air Markets Division, Office of Atmospheric Programs, Mail Code 6204J, Environmental Protection Agency, 1200 Pennsylvania Avenue, NW., Washington DC 20460, telephone number (202) 343-9252, e-mail address: stevens.gabrielle@epa.gov.

SUPPLEMENTARY INFORMATION: The public hearing is to provide the public with an opportunity to present oral comments regarding proposed revisions to EPA's Final Transport Rule (Federal Implementation Plans: Interstate Transport of Fine Particulate Matter and Ozone and Correction of SIP Approvals). EPA is proposing to amend the assurance penalty provisions of the rule to make them effective beginning January 1, 2014. EPA is also proposing, or seeking comment on, revisions to address discrepancies in unit-specific modeling assumptions that affect proper calculation of Transport Rule state budgets, new unit set-asides, Indian country new unit set-asides, and assurance levels as follows: (1) Revise an error in Michigan's annual NOX budget to account for an erroneously assumed selective catalytic reduction (SCR) emission control device at one unit; (2) revise an error in Nebraska's annual NOX budget to account for an erroneously assumed SCR emission control device at one unit; (3) revise an error in the Texas SO2 budget to account for erroneously assumed flue gas desulphurization (FGD, or scrubber) emission control devices at three units and revised assumptions regarding flue gas treatment in existing scrubbers at seven units; (4) revise an error in the Arkansas ozone-season new unit set-aside to account for erroneously omitted projected emissions from one new unit; (5) revise an error in the Texas new unit set-aside to account for erroneously omitted projected emissions for SO2, ozone-season NOX, and annual NOX; (6) revise New Jersey's ozone-season NOX, annual NOX and annual SO2 budgets to account for an erroneously assumed scrubber and selective catalytic reduction emission control device at one unit and generation required for reliability purposes at six units, (7) revise Wisconsin's annual SO2 and annual NOX budgets to account for an erroneously assumed FGD and SCR device at two units, and (8) revise New York's annual SO2, annual NOX, and ozone season NOX budgets based on required operational constraints likely to necessitate non-economic generation at ten units; (9) revise Louisiana's ozone season NOX budget taking into account operational constraints likely to necessitate non-economic generation at twelve units; (10) revise Mississippi's ozone season NOX budget taking into account operational constraints likely to necessitate non-economic generation at four units; (11) revise Texas's annual NOX and ozone season NOX budgets based on operational constraints likely to necessitate non-economic generation at seven units; and (12) revise Florida's ozone-season NOX budget taking into account the unavailability of a previously operating nuclear unit. EPA is also proposing to add an additional limit on the allocation of allowances to units covered by certain consent decrees. In addition, EPA is proposing to correct technical errors in the rule text.

Public hearing: The proposal for which EPA will hold the public hearing, if requested, is available at http://www.epa.gov/crossstaterule and also in the docket identified below. The public hearing, if requested, will provide interested parties the opportunity to present data, views, or arguments concerning the proposal. EPA may ask clarifying questions during the oral presentations, but will not respond to the presentations at that time. Written statements and supporting information submitted during the comment period will be considered with the same weight as any oral comments and supporting information presented at the public hearing. Written comments on the proposed rule must be postmarked November 14, 2011 unless a public hearing is requested in which event comments must be received on or before November 28, 2011.

Commenters should notify Ms. Stevens if they will need specific equipment or if there are other special needs related to providing comments at the hearing. EPA will provide equipment for commenters to show overhead slides or make computerized slide presentations if we receive special requests in advance. Oral testimony will be limited to 5 minutes for each commenter. EPA encourages commenters to provide EPA with a copy of their oral testimony electronically (via e-mail or CD) or in hard copy form.

The hearing schedule, including lists of speakers, will be posted on EPA's Web site http://www.epa.gov/crossstaterule. Verbatim transcripts of the hearing and written statements will be included in the docket for the rulemaking. Written statements (duplicate copies preferred) should be submitted to Docket ID No. EPA-HQ-2009-0491, at the address posted on EPA's webpage referenced above. Interested parties are strongly urged to monitor and consult the referenced Web site regarding the scheduled hearing.

EPA will make every effort to follow the schedule as closely as possible on the day of the hearing; however, please plan for the hearing to run either ahead of schedule or behind schedule.

How can I get copies of this document and other related information?

EPA has established a docket for the proposed rule “Revisions to the Federal Implementation Plans to Reduce Interstate Transport of Fine Particulate Matter and Ozone” under Docket ID No. EPA-HQ-OAR-2009-0491 (available at http://www.regulations.gov).

As stated previously, the proposed rule was signed on October 6, 2011 and is available at http://www.epa.gov/crossstaterule and in the above-cited docket.

Dated: October 6, 2011.
Elizabeth Craig,
Acting Director, Office of Atmospheric Programs.

[FR Doc. 2011-26314 Filed 10-11-11; 8:45 am]

BILLING CODE 6560-50-P